DEPARTMENT OF TRANSPORTATION

Federal Aviation Administration

14 CFR Part 71

[Docket No. FAA-2013-0951; Airspace Docket No. 13-ASW-22]

RIN 2120-AA66

Modification of Area Navigation (RNAV) Route Q-20, TX

AGENCY: Federal Aviation Administration (FAA), DOT.

ACTION: Final rule.

SUMMARY: This action modifies RNAV route Q-20 by relocating the FUSCO waypoint (WP) southwest to match the intersection of Jet routes J-15 and J-183. This action enhances the safe and efficient management of aircraft within the National Airspace System.

DATES: Effective Date: 0901 UTC, July 24, 2014. The Director of the Federal Register approves this incorporation by reference action under 1 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend Q-20 by moving the FUSCO WP to match the intersection of Jet Routes J-15 and J-183, and re-designate the WP as a fix (78 FR 70900, November 27, 2013). Interested parties were invited to participate in this rulemaking effort by submitting written comments on the proposal to the FAA. No comments were received.

Differences From the NPRM

Subsequent to publication of the NPRM, a refined geographic latitude/longitude position was calculated for the FUSCO WP in the description of RNAV route Q-20. In the NPRM, the FUSCO waypoint geographic position was proposed at “lat. 31°10′38″ N., long. 101°19′47″ W.” It has been determined that a more accurate alignment of the WP position is “lat. 31°10′37″ N., long. 101°19′45″ W.” This rule changes the FUSCO WP geographic position in the RNAV route Q-20 description to “lat. 31°10′37″ N., long. 101°19′45″ W.” to more accurately reflect the WP location and match the information contained in the FAA's aeronautical database.

This is a minor change to more accurately reflect the position of the FUSCO WP in the descriptions of RNAV route Q-20; therefore, notice and public procedure under 5 U.S.C. 553(b) are unnecessary.

The Rule

The FAA is amending Title 14, Code of Federal Regulations (14 CFR) part 71 by modifying Q-20 in support of the Houston Metroplex project to improve air traffic flows, increase capacity and fuel efficiency, and reduced track distances. Q-20 extends between the Corona, NM, VHF Omnidirectional Range/Tactical Air Navigation (VORTAC) navigation aid and the Junction, TX, VORTAC navigation aid. This action amends Q-20 by relocating the FUSCO WP 0.48 nautical miles southwest to match the intersection of J-15 and J-183. Additionally, this action re-designates FUSCO as a fix. This modification enables aircraft flying eastbound via J-15, J-183, or Q-20, to file direct, after FUSCO, to a published transition to any of the Houston Standard Terminal Arrival Routes. This rule simplifies flight plan filing and flight management computer entries; thus, reducing the potential for routing errors in addition to the benefits mentioned previously.

High altitude RNAV routes are published in paragraph 2006 of FAA Order 7400.9X dated August 7, 2013, and effective September 15, 2013, which is incorporated by reference in 14 CFR 71.1. The RNAV route listed in this rule will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to enhance the safe and efficient flow of air traffic in the United States.

Environmental Review

The FAA has determined that this action qualifies for categorical exclusion under the National Environmental Policy Act in accordance with FAA Order 1050.1E, “Environmental Impacts: Policies and Procedures,” paragraph 311a. This airspace action consists of a modification of an existing airway and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013, is amended as follows:

Paragraph 2006 United States Area Navigation Routes

* * * * *

Q-20 CNX, NM to JCT, TX [Amended]
Corona (CNX), NM | VORTAC | (Lat. 34°22″01′ N., long. 105°40″41′ W.)
HONDS, NM | FIX | (Lat. 33°34″00′ N., long. 104°51″12′ W.)
UNNOS, NM | WP | (Lat. 32°57″00′ N., long. 103°56″00′ W.)
FUSCO, TX | FIX | (Lat. 31°10″37′ N., long. 101°19″45′ W.)
Junction (JCT), TX | VORTAC | (Lat. 30°35″53′ N., long. 99°49″03′ W.)

Issued in Washington, DC, on April 7, 2014.
Gary A. Norek,
Manager, Airspace Policy and Regulations Group.

[FR Doc. 2014-08243 Filed 4-11-14; 8:45 am]

BILLING CODE 4910-13-P